DEPARTMENT OF HOMELAND SECURITY

United States Immigration and Customs Enforcement

Agency Information Collection Activities: Extension of an Existing Information Collection; Comment Request

ACTION: 30-Day Notice of Information Collection for Review; National Security Entry-Exit Registration System (NSEERS), OMB No. 1653-0036.

The Department of Homeland Security, U.S. Immigration and Customs Enforcement (USICE), will submit the following information collection request for review and clearance in accordance with the Paperwork Reduction Act of 1995. The information collection was previously published in the Federal Register on May 5, 2010 Vol. 75 No. 86, 24721, allowing for a 60 day public comment period. ICE received nine (9) comments during this comment period.

The purpose of this notice is to allow an additional 30 days for public comments. Comments are encouraged and will be accepted for thirty days September 30, 2010.

Interested persons are invited to submit written comments on the proposed information collection to the Office of Information and Regulatory Affairs, Office of Management and Budget. Comments should be addressed to OMB Desk Officer, for United States Immigration and Customs Enforcement, Department of Homeland Security, and sent via electronic mail to oira_submission@omb.eop.gov or faxed to (202) 395-5806.

Written comments and suggestions from the public and affected agencies concerning the proposed collection of information should address one or more of the following four points:

(1) Evaluate whether the proposed collection of information is necessary for the proper performance of the functions of the agency, including whether the information will have practical utility;

(2) Evaluate the accuracy of the agencies' estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of an existing information collection.

(2) Title of the Form/Collection: National Security Entry-Exit Registration System (NSEERS).

(3) Agency form number, if any, and the applicable component of the Department of Homeland Security sponsoring the collection: There is no form associated with this collection which is sponsored by U.S. Immigration and Customs Enforcement.

(4) Affected public who will be asked or required to respond, as well as a brief abstract: Primary: Individuals and Households. This information collection requires certain nonimmigrant aliens to make specific reports to ICE approximately 30 days after arrival; every 12 months after arrival; upon certain events, such as change of address, employment or school; and at the time they leave the United States.

(5) An estimate of the total number of respondents and the amount of time estimated for an average respondent to respond: 58,000 responses at 30 minutes (.50 hours) per response.

(6) An estimate of the total public burden (in hours) associated with the collection: 29,000 annual burden hours.

Requests for additional information about information should be sent via e-mail to forms.ice@dhs.gov with “NSEERS” in the subject line.

Dated: August 24, 2010.
Joseph M. Gerhart,
Chief, Records Management Branch, U.S. Immigration and Customs Enforcement, Department of Homeland Security.

[FR Doc. 2010-21627 Filed 8-30-10; 8:45 am]

BILLING CODE 9111-28-P